DEPARTMENT OF COMMERCE

National Oceanic and Atmospheric Administration

50 CFR Part 622

[Docket No. 140818679-5356-02; RTID 0648-XE873]

2025 Gulf Red Snapper Recreational For-Hire Fishing Season

AGENCY: National Marine Fisheries Service (NMFS), National Oceanic and Atmospheric Administration (NOAA), Commerce.

ACTION: Temporary rule; closure.

SUMMARY: NMFS announces the 2025 recreational fishing season for the Federal charter vessel/headboat (for-hire) component for red snapper in the exclusive economic zone (EEZ) of the Gulf through this temporary rule. The red snapper recreational for-hire component in the Gulf EEZ opens on June 1, 2025, and will close at 12:01 a.m., local time, on September 16, 2025. This closure is necessary to prevent the Federal for-hire component from exceeding its quota and to prevent overfishing of the Gulf red snapper resource.

DATES: The closure is effective at 12:01 a.m., local time, on September 16, 2025, until 12:01 a.m., local time, on January 1, 2026.

FOR FURTHER INFORMATION CONTACT: Frank Helies, NMFS Southeast Regional Office, telephone: 727-209-5988, email: frank.helies@noaa.gov.

SUPPLEMENTARY INFORMATION: The Gulf reef fish fishery, which includes red snapper, is managed under the Fishery Management Plan for the Reef Fish Resources of the Gulf (FMP). The Gulf Council prepared the FMP, which was approved by the Secretary of Commerce, and NMFS implements the FMP through regulations at 50 CFR part 622 under the authority of the Magnuson-Stevens Fishery Conservation and Management Act (Magnuson-Stevens Act).

Through this temporary rule, NMFS announces the recreational fishing season for the red snapper recreational sector for-hire component in the Gulf of America (Gulf) for the 2025 fishing year. Executive Order 14172, “Restoring Names That Honor American Greatness” (January 20, 2025), directs that the Gulf of Mexico be renamed the Gulf of America. Consistent with the order, this action uses Gulf of America to refer to the area known as the Gulf of Mexico in the specific regulations at 50 CFR part 622.

The final rule implementing Amendment 40 to the FMP established two components within the recreational sector fishing for Gulf red snapper: the private angling component and the Federal for-hire component (80 FR 22422, April 22, 2015). Amendment 40 also allocated the red snapper recreational annual catch limit (ACL; recreational quota) between the components and established separate seasonal closures for the two components. The Federal for-hire component's red snapper annual catch target (ACT) is 9 percent below the for-hire component quota (87 FR 74014, December 2, 2022; 50 CFR 622.41(q)(2)(iii)(B)).

The red snapper for-hire component seasonal closure is projected from the component's ACT. Projecting the for-hire component's seasonal closure using the ACT reduces the likelihood of the harvest exceeding the component quota and the total recreational quota. The Federal for-hire component ACT for red snapper in the Gulf EEZ is 3,076,322 pounds (1,395,396 kilograms), round weight (50 CFR 622.41(q)(2)(iii)(B)).

NMFS has determined that the 2025 Federal Gulf red snapper for-hire fishing season will be 107 days. NMFS considered season length projections based on average catch rates for 2020-2022, 2020-2024, and 2022-2024, and using only 2024 landings. NMFS determined that 107 days is likely to constrain harvest to the for-hire component ACT based on these historical catch rates, including the lower catch rates and the under harvest of the component ACT in 2024 (74 percent of the ACT). For details about the projection for 2025, see https://www.fisheries.noaa.gov/southeast/sustainable-fisheries/gulf-mexico-recreational-red-snapper-management. Therefore, the 2025 recreational season for the Federal for-hire component will begin at 12:01 a.m., local time, on June 1, 2025, and close at 12:01 a.m., local time, on September 16, 2025.

On and after the effective date of the Federal for-hire component closure, the bag and possession limits for red snapper for Federal for-hire vessels are zero. When the Federal for-hire component is closed, these bag and possession limits apply in the Gulf on board a vessel for which a valid Federal for-hire permit for Gulf reef fish has been issued, without regard to where such species were harvested, i.e., in state or Federal waters. In addition, a person aboard a vessel that has been issued a charter vessel/headboat permit for Gulf reef fish any time during the fishing year may not harvest or possess red snapper in or from the Gulf EEZ when the Federal charter vessel/headboat component is closed.

Classification

NMFS issues this action pursuant to section 305(d) of the Magnuson-Stevens Act. This action is taken under 50 CFR 622.41(q)(2)(i) and (ii), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the rule implementing the recreational red snapper quotas and ACTs, and the rule implementing the requirement to close the for-hire component when its ACT is projected to be reached have already been subject to notice and comment, and all that remains is to notify the public of the closure. Such procedures are contrary to the public interest because many for-hire operations book trips for clients in advance and require as much notice as NMFS is able to provide to adjust their business plans to account for the fishing season.

Authority: 16 U.S.C. 1801 et seq.

Dated: May 6, 2025.
Kelly Denit,
Director, Office of Sustainable Fisheries, National Marine Fisheries Service.

[FR Doc. 2025-08228 Filed 5-9-25; 8:45 am]

BILLING CODE 3510-22-P